DEPARTMENT OF THE TREASURY

Agency Information Collection Activities; Emergency Submission for OMB Review; Comment Request; Capital Projects Fund Compliance Reporting

AGENCY: Departmental Offices, U.S. Department of the Treasury.

ACTION: Notice.

SUMMARY: The Department of the Treasury has submitted the following information collection request to the Office of Management and Budget (OMB) for review and clearance utilizing emergency review procedures in accordance with the Paperwork Reduction Act of 1995. Emergency review and approval of this collection has been requested from OMB by April 30, 2022. The public is invited to submit comments on this request.

DATES: Written comments must be received on or before May 25, 2022.

ADDRESSES: Send comments regarding the burden estimate, or any other aspect of the information collection, including suggestions for reducing the burden, by the following method:

• Federal E-rulemaking Portal: http://www.regulations.gov. Follow the instructions for submitting comments. Refer to Docket Number TREAS-DO-2022-0011 and the specific Office of Management and Budget (OMB) control number 1505-NEW.

FOR FURTHER INFORMATION CONTACT: For questions related to this program, please contact Jeremy Turret by emailing Jeremy.Turret@treasury.gov, or calling 202-622-4256. Additionally, you can view the information collection requests at www.reginfo.gov.

SUPPLEMENTARY INFORMATION: Title: Coronavirus Capital Projects Fund.

OMB Control Number: 1505-XXXX.

Type of Review: New Collection.

Description: Section 604 of the Social Security Act (the “Act”), as added by section 9901 of the American Rescue Plan Act of 2021, Public Law 117-2 (Mar. 11, 2021) established the Coronavirus Capital Projects Fund (“CPF”). The CPF provides $10 billion in funding for the U.S. Department of the Treasury (“Treasury”) to make payments according to a statutory formula to States (defined to include each of the 50 states, the District of Columbia, and Puerto Rico), seven territories and freely associated states (the United States Virgin Islands, Guam, American Samoa, the Commonwealth of the Northern Mariana Islands, the Republic of the Marshall Islands, the Federated States of Micronesia, and the Republic of Palau), and Tribal governments ¹ to carry out critical capital projects directly enabling work, education, and health monitoring, including remote options, in response to the public health emergency with respect to the Coronavirus Disease (COVID-19).

¹ An eligible Tribal government is the recognized governing body of any Indian or Alaska Native tribe, band, nation, pueblo, village, community, component band, or component reservation, individually identified (including parenthetically) in the list published most recently as of the date of enactment of this Act pursuant to section 104 of the Federally Recognized Indian Tribe List Act of 1994 (25 U.S.C. 5131). The State of Hawaii, for exclusive use of the Department of Hawaiian Home Lands and the Native Hawaiian Education Programs to assist Native Hawaiians, is also eligible to apply for funding under this funding category.

The current information collection will be used to solicit information related to quarterly project and expenditure reports and annual performance reports. Both information collections are described generally in the Compliance and Reporting Guidance. The Compliance and Reporting Guidance provides recipients with information needed to fulfill their reporting requirements and compliance obligations. Treasury will also prepare an IT portal user guide with specific instructions on entering data into the reporting web-based portal.

The initial Project and Expenditure Report must be submitted by States, territories, and freely associated states on July 31, 2022,² with subsequent reports being due quarterly for the duration of the period of performance. The Project and Expenditure Report contains a set of standardized questions to ascertain the recipient's use of funds received as of the date of reporting, as well as the status of individual projects. Treasury will make the data submitted by recipients publicly available.

² State, territory, and freely associated state recipients that have not received any payments by June 15, 2022, will be exempted from the report due on July 31, 2022.

The first interim Performance Report must be submitted by States, territories, and freely associated states on January 31, 2023, with subsequent reports being due annually on July 31 for the duration of the period of performance. The Performance Report will contain detailed performance data corresponding to the “Programs” specified previously in a recipient's Grant Plan. This will include information on efforts to improve equity and engage communities. The Performance Report is largely freely written text, and while there are certain data and topics that recipients must cover in the Performance Report, it is mostly free-form written content. Recipients are required to publish the Performance Report on their website and provide the reports to Treasury. Treasury will make the Performance Reports and associated data submitted by recipients publicly available.

Forms: Compliance and Reporting Guidance for States, Territories, and Freely Associated States

Affected Public: State, Territorial, and Freely Associated State Governments.

Estimated Number of Respondents: 59.

Frequency of Response: 4 times per year for Progress and Expenditure reports; 1 time per year for Performance Reports.

Estimated Total Number of Annual Responses: 295.

Estimated Time per Response: 62 hours for Project and Expenditure Reports. 80 hours for Performance Reports.

Estimated Total Annual Burden Hours: 19,352.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

(Authority: 44 U.S.C. 3501 et seq.)

Molly Stasko,
Treasury PRA Clearance Officer.

[FR Doc. 2022-09953 Filed 5-9-22; 8:45 am]

BILLING CODE 4810-AK-P